DEPARTMENT OF THE INTERIOR

Bureau of Indian Affairs

Law and Order on Indian Reservations

AGENCY: Bureau of Indian Affairs, Interior.

ACTION: Notice of Intent to reassume judicial jurisdiction.

SUMMARY: This notice announces the Bureau of Indian Affairs' intent to reassume judicial jurisdiction for the Kaw Nation of Oklahoma and to administer court cases under the Court of Indian Offenses for the Southern Plains Region.

EFFECTIVE DATE: April 29, 2003.

FOR FURTHER INFORMATION CONTACT: Terry Bruner, Tribal Government Officer, Southern Plains Regional Office, Bureau of Indian Affairs, PO Box 368, WCD Office Complex, Anadarko, Oklahoma 73005, Telephone (405) 247-6673 ext 209, Fax (405) 247-9240; or Ralph Gonzales, Branch of Judicial Services, Office of Tribal Services, Bureau of Indian Affairs, 1951 Constitution Avenue, NW., MS 320-SIB, Washington, DC 20240, Telephone (202) 208-4401.

SUPPLEMENTARY INFORMATION: This notice is published in accordance with the authority delegated by the Secretary of the Interior to the Assistant Secretary—Indian Affairs under part 209, Chapter 8, of the Departmental Manual (209 DM 8).

On November 16, 2002, the Kaw Executive Council passed a motion to return court function to the Bureau of Indian Affairs. On December 12, 2002, Resolution 96(a) was adopted by a majority of the Executive Council for the same purpose. By letter dated February 28, 2003, the Office of Self-Governance, Department of the Interior, advised the Kaw Nation that the funding for the tribal court was being withdrawn and that the Bureau of Indian Affairs, Southern Plains Regional Office's (formerly the Anadarko Area Office) Court of Indian Offenses would reassume jurisdiction over matters arising within the Kaw Nation, as listed in 25 CFR part 11.100(a)(9)(x). The Court of Indian Offenses for the tribes in western Oklahoma was established in response to the decisions of United States v. Littlechief, No. CR-76-207-D, and State of Oklahoma v. Littlechief, 573 P.2d 263 (Okla. Crim. App. 1978), which held that the State of Oklahoma lacked jurisdiction over matters occurring on trust or restricted lands (44 FR 37502). This Court of Indian Offenses continues to serve those tribes in the Southern Plains Region which have not established tribal courts. The Kaw Nation's retrocession and closing of its tribal court creates a jurisdictional vacuum. In order to protect lives, persons, and property of people residing within the Nation's jurisdiction, the Bureau of Indian Affairs must immediately reassume judicial jurisdiction within the Indian country of the Kaw Nation of Oklahoma, until such time as the Nation reestablishes its court in accordance with 25 CFR 11.100(c). For this reason, effective April 29, 2003, the Bureau of Indian Affairs reassumes judicial jurisdiction for the Kaw Nation of Oklahoma.

Dated: April 15, 2003.
Aurene M. Martin,
Assistant Secretary—Indian Affairs.

[FR Doc. 03-10427 Filed 4-28-03; 8:45 am]

BILLING CODE 4310-4J-P